DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 26, 2009. Address written comments to Statutory Import Programs Staff, Room 3720, U.S. Department of Commerce, Washington, D.C. 20230. Applications may be examined between 8:30 A.M. and 5:00 P.M. at the U.S. Department of Commerce in Room 3720.

Docket Number: 09-013. Applicant: Princeton University, Olden Street, Princeton, NJ 08544. Instrument: Electron Beam Evaporator. Manufacturer: Plassys, France. Intended Use: The instrument will be used in the study of superconducting quantum circuits, ultimately directed towards superconducting quantum computation. The evaporator will be used to make low-defect aluminum Josephson junctions, a necessary component of all quantum bits. A unique feature of this instrument is that it offers full stage rotation, in-situ angle control for bilayer Josephson junction fabrication and controlled oxidation. Stage rotation is necessary to fabricated Josephson junctions in a single deposition process, the only way of fabricating devises with long coherence. Justification for Duty-Free Entry: No instruments of the same general category as the foreign instrument begin manufactured in the United States. Application accepted by Commissioner of Customs: April 6, 2009.

Dated: April 27, 2009.
Christopher Cassel,
Acting Director, IA Subsidies Enforcement Office.

[FR Doc. E9-10175 Filed 5-1-09; 8:45 am]

BILLING CODE 3510-DS-S